DEPARTMENT OF AGRICULTURE

Agricultural Marketing Service

7 CFR Part 1217

[Document No. AMS-SC-17-0072]

Softwood Lumber Research, Promotion, Consumer Education and Industry Information Order; Continuance Referendum

AGENCY: Agricultural Marketing Service, USDA.

ACTION: Notification of referendum order.

SUMMARY: This document directs that a referendum be conducted among eligible domestic (U.S.) manufacturers and importers of softwood lumber to determine whether they favor continuance of the Agricultural Marketing Service's (AMS) regulations regarding a national softwood lumber research and promotion program.

DATES: The referendum will be conducted by mail ballot from April 17 through May 14, 2018. Ballots must be received by the referendum agents no later than the close of business on May 14, 2018, to be counted.

ADDRESSES: Copies of the softwood lumber program may be obtained from: Referendum Agent, Promotion and Economics Division, Specialty Crops Program, AMS, USDA, 1400 Independence Avenue SW, Room 1406-S, Stop 0244, Washington, DC 20250-0244, telephone: (202) 720-9915; facsimile: (202) 205-2800; or contact Maureen Pello at (503) 632-8848 or via electronic mail: Maureen.Pello@ams.usda.gov.

FOR FURTHER INFORMATION CONTACT: Maureen Pello, Marketing Specialist, Promotion and Economics Division, Specialty Crops Program, AMS, USDA, 1400 Independence Avenue SW, Room 1406-S, Stop 0244, Washington, DC 20250-0244; telephone: (202) 720-9915, (503) 632-8848 (direct line); facsimile: (202) 205-2800; or electronic mail: Maureen.Pello@ams.usda.gov.

SUPPLEMENTARY INFORMATION: Pursuant to the Commodity Promotion, Research, and Information Act of 1996 (7 U.S.C. 7411-7425) (1996 Act), it is hereby directed that a referendum be conducted to ascertain whether continuance of the Softwood Lumber Research, Promotion, Consumer Education and Industry Information Order (7 CFR part 1217) is favored by eligible domestic manufacturers and importers of softwood lumber. The program is authorized under the 1996 Act.

The representative period for establishing voter eligibility for the referendum shall be the period from January 1 through December 31, 2017. Persons who domestically manufactured and shipped or imported 15 million board feet or more of softwood lumber during the representative period, were subject to assessments during that period, and are currently softwood lumber manufacturers or importers subject to assessment under the part are eligible to vote. Persons who received an exemption from assessments pursuant to § 1217.53 for the entire representative period are ineligible to vote. The referendum will be conducted by mail ballot from April 17 through May 14, 2018.

Section 518 of the 1996 Act (7 U.S.C. 7417) authorizes continuance referenda. Under § 1217.81(b), the U.S. Department of Agriculture (USDA) must conduct a referendum seven years after the program became effective to determine whether persons subject to assessment favor continuance of the program. The program took effect in 2011. USDA would continue the program if continuance is favored by a majority of the domestic manufacturers and importers voting in the referendum, who also represent a majority of the volume of softwood lumber represented in the referendum.

In accordance with the Paperwork Reduction Act of 1995 (44 U.S.C. chapter 35), the referendum ballot has been approved by the Office of Management and Budget (OMB) and assigned OMB No. 0581-0093. It has been estimated that approximately 210 entities will be eligible to vote in the referendum. It will take an average of 15 minutes for each voter to read the voting instructions and complete the referendum ballot.

Referendum Order

Maureen Pello, Marketing Specialist, and Heather Pichelman, Director, Promotion and Economics Division, Specialty Crops Program, AMS, USDA, Stop 0244, Room 1406-S, 1400 Independence Avenue SW, Washington, DC 20250-0244, are designated as the referendum agents to conduct this referendum. The referendum procedures at 7 CFR 1217.100 through 1217.108, which were issued pursuant to the 1996 Act, shall be used to conduct the referendum.

The referendum agents will mail the ballots to be cast in the referendum and voting instructions to all known, eligible domestic manufacturers and importers prior to the first day of the voting period. Persons who domestically manufactured and shipped or imported 15 million board feet or more of softwood lumber during the representative period, were subject to assessment during that period, and are currently softwood lumber domestic manufacturers or importers subject to assessment under the part are eligible to vote. Persons who received an exemption from assessments pursuant to § 1217.53 during the entire representative period are ineligible to vote. Any eligible domestic manufacturer or importer who does not receive a ballot should contact a referendum agent no later than one week before the end of the voting period. Ballots must be received by the referendum agent by 4:30 p.m. Eastern time, May 14, 2018, in order to be counted.

List of Subjects in 7 CFR Part 1217

Administrative practice and procedure, Advertising, Consumer information, Marketing agreements, Promotion, Reporting and recordkeeping requirements, Softwood lumber.

Authority: 7 U.S.C. 7411-7425; 7 U.S.C. 7401.

Dated: February 2, 2018.
Bruce Summers,
Acting Administrator.

[FR Doc. 2018-02485 Filed 2-9-18; 8:45 am]

BILLING CODE P